DEPARTMENT OF HEALTH AND HUMAN SERVICES

National Institutes of Health

National Cancer Institute; Amended Notice of Meeting

Notice is hereby given of a change in the meeting of the Subcommittee A—Cancer Centers, May 13, 2020, 5:00 p.m. to May 14, 2020, 6:00 p.m., Embassy Suites at the Chevy Chase Pavilion, 4300 Military Road NW, Washington, DC 20015 which was published in the Federal Register on December 20, 2019, 84 FR 70202.

This meeting notice is amended to change the meeting location, times, and format. The meeting will now be held on May 13, 2020, 9:00 a.m. to May 14, 2020, 11:30 a.m. as a Video-Assisted Meeting at National Cancer Institute (NCI) Shady Grove, 9609 Medical Center Drive, Rockville, MD 20850. The meeting is closed to the public.

Dated: March 19, 2020.
Melanie J. Pantoja,
Program Analyst, Office of Federal Advisory Committee Policy.

[FR Doc. 2020-06201 Filed 3-24-20; 8:45 am]

BILLING CODE 4140-01-P